TENNESSEE VALLEY AUTHORITY

Meeting of the Regional Resource Stewardship Council

AGENCY: Tennessee Valley Authority (TVA).

ACTION: Notice of meeting.

SUMMARY: The Regional Resource Stewardship Council (Regional Council) will hold a meeting to consider various matters. Notice of this meeting is given under the Federal Advisory Committee Act, 5 U.S.C. App. 2 (FACA).

The meeting agenda includes the following/briefings:

1. GAO's report on alternative river management operations.

2. Impact of environmental stewardship decision on distributor customers.

3. Public comments.

4. Impact of instream flows upon navigation.

5. Impact of land management practices on water quality.

It is the Regional Council's practice to provide an opportunity for members of the public to make oral public comments at its meetings. Public comment session is scheduled from 11 a.m.—noon EDT. Members of the public who wish to make oral public comments may do so during the Public comments portion of the agenda. Up to one hour will be allotted for the public comments with participation available on a first-come, first-served basis. Speakers addressing the Council are requested to limit their remarks to no more than 5 minutes. Persons wishing to speak register at the door and are then called on by the Council Chair during the public comment period. Hand-out materials should be limited to one printed page.

Written comments are also invited and may be mailed to the Regional Resource Stewardship Council, Tennessee Valley Authority, 400 West Summit Hill Drive, WT 11A, Knoxville, Tennessee 37902.

DATES: The meeting will be held on Wednesday, November 1, 2000, from 8:30 a.m. to 5:00 p.m. EDT.

ADDRESSES: The meeting will be held in Knoxville, Tennessee, at the Tennessee Valley Authority, West Tower, First Floor, Auditorium, 400 West Summit Hill Drive, Knoxville, Tennessee 37902, and will be open to the public. Anyone needing special access or accommodations should let the contact below know at least a week in advance.

FOR FURTHER INFORMATION CONTACT: Sandra L. Hill, 400 West Summit Hill Drive, WT 11A, Knoxville, Tennessee 37902, (865) 632-2333.

Dated: October 2, 2000.
Kathryn J. Jackson
Executive Vice President, River System Operations & Environment Tennessee Valley Authority.

[FR Doc. 00-26436 Filed 10-13-00; 8:45 am]

BILLING CODE 8120-08-P